DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the Centers for Disease Control and Prevention (CDC) announces the following meeting of the aforementioned committee:

Time And Date: 8:30 a.m.-3:00 p.m., EDT, October 29, 2015.

Place: CDC, Building 21, Conference Rooms 1204 A/B, 1600 Clifton Road NE., Atlanta, Georgia 30329.

Status: Open to the public, limited only by the space and phone lines available. The meeting room accommodates approximately 50 people. Advance registration for in-person participation is required by October 16, 2015. The public is welcome to participate during the public comment period, which is tentatively scheduled from 2:35 p.m. to 2:40 p.m. This meeting will also be available by teleconference. Please dial (877) 930-8819 and enter code 1579739.

Web links:

Windows Media: http://wm.onlinevideoservice.com/CDC1

Flash: http://www.onlinevideoservice.com/clients/CDC/?mount=CDC3

Smart Phone and Mobile Devices: http://wowza01.sea.onlinevideoservice.com/live/CDC3/playlist.m3u8

If you are unable to connect using the link, copy and paste the link into your web browser. For technical support please call: (404) 639-3737.

PURPOSE: The Advisory Committee to the Director, CDC, shall advise the Secretary, HHS, and the Director, CDC, on policy and broad strategies that will enable CDC to fulfill its mission of protecting health through health promotion, prevention, and preparedness. The committee recommends ways to prioritize CDC's activities, improve results, and address health disparities. It also provides guidance to help CDC work more effectively with its various private and public sector constituents to make health protection a practical reality.

Matters For Discussion: The Advisory Committee to the Director will receive updates from the State, Tribal, Local and Territorial Subcommittee; the Health Disparities Subcommittee, the Ethical Considerations for Public Private Partnerships Workgroup, the Global Workgroup, the Internal and External Laboratory Safety Workgroups, and the Public Health—Health Care Collaboration Workgroup, as well as an update from the CDC Director.

Agenda items are subject to change as priorities dictate.

Contact Person For More Information: Carmen Villar, MSW, Designated Federal Officer, ACD, CDC, 1600 Clifton Road NE., M/S D-14, Atlanta, Georgia 30329. Telephone (404) 639-7158, Email: GHickman@cdc.gov. The deadline to register for in-person attendance at this meeting is October 16, 2015. To register, please send an email to GHickman@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention (CDC).

[FR Doc. 2015-24665 Filed 9-28-15; 8:45 am]

BILLING CODE 4163-18-P